DEPARTMENT OF LABOR

Employment and Training Administration

[TA-W-58,013]

Spectrum Yarns, Inc., Kings Mountain, NC; Notice of Revised Determination on Reconsideration

By application of November 8, 2005 a company official requested administrative reconsideration of the Department's negative determination regarding eligibility for workers and former workers of the subject firm to apply for Trade Adjustment Assistance (TAA) and Alternative Trade Adjustment Assistance (ATAA). The denial notice was signed on October 21, 2005 and published in the Federal Register on November 9, 2005 (70 FR 68099).

The TAA petition, filed on behalf of workers at Spectrum Yarns, Inc., Kings Mountain, North Carolina, engaged in production of dyed yarns was denied because criteria 3(A) and 3(B) were not met. The negative determination was based on the findings that job losses at the subject firm were not attributed to the subject firm losing business as a supplier to a firm that shifted production abroad or was affected by increased imports.

In the request for reconsideration, the petitioner provided additional information regarding the products manufactured at the subject facility. Upon further investigation on reconsideration, it was revealed that workers of the subject firm produce the spun polyester poly blend dyed yarn; they are separately identifiable from other workers of the subject firm. It was further revealed that employment and sales of the spun polyester poly blend dyed yarn decreased during the relevant time period.

The company official provided a list of the subject firm's customers, and requested an investigation of a secondary impact on the subject firm as an upstream supplier in the textile industry. A review of the new facts has determined that the workers of the subject firm may qualify as eligible for TAA on the basis of a secondary upstream supplier impact.

Having conducted an investigation of subject firm workers on the basis of secondary impact, it was revealed that Spectrum Yarns, Inc., Kings Mountain, North Carolina, supplied spun polyester poly blend dyed yarn that were used in the production of textile fabrics and other textile products, and a loss of business with domestic manufacturers (whose workers were certified eligible to apply for adjustment assistance) contributed importantly to the workers separation or threat of separation.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the facts obtained in the investigation, I determine that workers of Spectrum Yarns, Inc., Kings Mountain, North Carolina, engaged in production of spun polyester poly blend dyed yarn qualify as adversely affected secondary workers under section 222 of the Trade Act of 1974, as amended. In accordance with the provisions of the Act, I make the following certification:

All workers of Spectrum Yarns, Inc., Kings Mountain, North Carolina, engaged in production of spun polyester poly blend dyed yarn, who became totally or partially separated from employment on or after July 30, 2005, through two years from the date of this certification, are eligible to apply for adjustment assistance under section 223 of the Trade Act of 1974 and

All workers of Spectrum Yarns, Inc., Kings Mountain, North Carolina, who became totally or partially separated from employment on or after September 19, 2004, through two years from the date of this certification, are eligible to apply for alternative trade adjustment assistance under section 246 of the Trade Act of 1974.

Signed at Washington, DC, this 12th day of December, 2005.
Linda G. Poole,
Certifying Officer, Division of Trade Adjustment Assistance.

[FR Doc. E5-7605 Filed 12-20-05; 8:45 am]

BILLING CODE 4510-30-P